SECURITIES AND EXCHANGE COMMISSION

In the Matter of Able Energy, Inc.; Et al.; Order of Suspension of Trading

February 3, 2014

Order of Suspension of Trading

In the Matter of Able Energy, Inc., ACI Global Corp., Alternative Energy Development Corp., Allied Products Corp., AEC Holdings Corp., Auction Floor, Inc., American Gold Resources Corp., Angus Energy Corp., Ashby Corporation Ltd., Aksys, Ltd., Allison Industries Ltd., Alchemy Creative, Inc., Allenergy Inc., American Green Group, Inc., Anviron Holding Co. (The), American Patriot Corp., Aquis Communications Group, Inc., Aquamatrix, Inc., ARTISTdirect, Inc., Ascendia Brands, Inc., Ausam Energy Corp., American TonerServe Corp., Atlantis Plastics, Inc., Axiom Management, Inc., BBMF Corp., Barricini, Inc., Butterfield-Blair, Inc., d/b/a Novahead, Inc., Laura (RONALD S.) Enterprises, Inc., b-Fast Corp., BioGold Fuels Corp., Bioponic Phytoceuticals, Inc., BrightStar Information Technology Group, Inc., BAXL Holdings, Inc., Calibre Energy, Inc., Cambridge Resources Corp., Capacitive Deionization Technologies Systems, Inc., Certified Environmental Group, Inc., CareGuide, Inc., Chill Tech Industries, Inc., Chatsworth Data Solutions, Inc., Caliber Energy, Inc., Color Q, Inc., Consolidated American Industries Corp., Corporate Media International, Inc., China Oil & Methanol Group, Inc., Comedia Corp., Concorde America, Inc., Custom Restaurant & Hospitality Group, Inc. (The), Consolidated Biofuels, Inc., Creston Resources, Ltd., ClearStory Systems, Inc., Coattec Industries, Inc., CO2 Tech Ltd., Cardiovascular Sciences, Inc., CyberCash, Inc., Cheyenne Resources Corp., DAL International Ltd., Digital Fusion Multimedia Corp., DealerAdvance, Inc., DataLogic International, Inc., Datamarine International, Inc., Domestic Energy Corp., DNAPrint Genomics, Inc., Deep Earth Resources, Inc., Deep Field Technologies, Inc., Direct Coating, Inc., Display Technologies, Inc., DiaSys Corp., eAutoclaims, Inc., EnterConnect Inc., Effective Control Transport, Inc., EdgeTech International, Inc., Eagle Ventures International, Inc., Electric & Gas Technology, Inc., Electric Motors Corp., Encore Energy Systems, Inc., E' Prime Aerospace Corp., Environmental Power Corp., Eagle Resource Holdings, Inc., ER Urgent Care Holdings, Inc., Estore of N.Y., Inc., Exact Energy Resources, Inc., Freedom Bank (Bradenton, FL), 4-D Neuroimaging, Federated Purchaser, Inc., Forefront Holdings, Inc., First Montauk Financial Corp., First Mortgage Corp., First National Entertainment Corp., Finch Pruyn & Co., Inc., Flair Petroleum Corp., fSONA Systems Corp., Grand Adventures Tour & Travel Publishing Corp., Global Materials & Services, Inc., Global Industrial Services, Inc., Geerlings & Wade, Inc., Geotel, Inc., Global IT Holdings, Inc., Grand Entertainment & Music, Inc., Geeks On Call Holdings, Inc., Grayling Wireless USA, Inc., Gold Coast Resources, Inc., Harvest Bio-Organic International Co., Ltd., HC Innovations, Inc., HealthGate Data Corp., Hastings Manufacturing Co., Hemi Energy Group, Inc., Hemisphere Gold, Inc., Harold's Stores, Inc., H3 Enterprises, Inc., Henley, L.P., IBSG International, Inc., Impact E Solutions Corp., Interfac Mining, Inc., IFSA Strongman, Inc., Ignis Petroleum Group, Inc., Innovative Impact Design, Inc., International Airline Support Group, Inc., ImageMax, Inc., Infinity Medical Group, Inc., Immune-Tree International, Inc., Introgen Therapeutics, Inc., Interep National Radio Sales, Inc., Isonics Corp., Integrated Data Corp., Integrated Water Resources, Inc., IX Energy Holdings, Inc., Itzyourmall, Inc., Jinhua Marine Biological (USA), Inc., Juniper Content Corp., Karat Platinum, Inc., Karver International, Inc., LDF Inc., Logistical Support, Inc., LifeHouse Retirement Properties, Inc., Link Plus Corp., ShoLodge, Inc., Latin American Telecommunications Venture Company, Las Vegas Central Reservations Corp., Lottery & Wagering Solutions, Inc., Luxon Holdings, Inc., Mobile Entertainment, Inc., Master Distribution Systems, Inc., MDM Group, Inc., Medical Finance, Inc., MagStar Technologies, Inc., Moore-Handley, Inc., MicroMed Cardiovascular, Inc., Market 99 Ltd., Merco Sud Agro-Financial Equities Corp., MSH Entertainment Corp., Mascot Silver-Lead Mines, Inc., Monarch Staffing, Inc., MitoPharm Corp., My Healthy Access, Inc., New China Ventures, Ltd., New Dover Capital Corp., New Generation Technology Holding Inc., North Country Hospitality, Inc., National Medical Financial Services Corporation, National Maintenance Group, Inc., NutriOne Corp., Nostalgia Network, Inc. (The), NP Energy Corp., Narrowstep, Inc., NS8 Corp., Navitone Technologies, Inc., North West Oil Group, Inc., Nextera Enterprises, Inc., Nyvatex Oil Corporation (The), Obee's Franchise Systems, Inc., Ofek Capital Corp., CEVA International, Inc., Online Sales Strategies, Inc., Panacos Pharmaceuticals, Inc., Patio Bahia Inc., Phoenix Associates Land Syndicate, Prime Companies, Inc., Piccolo Educational Systems, Inc., Pamet Systems, Inc., Panglobal Brands, Inc., Pensador Resources, Inc., Pop3 Media Corp., PreMD Inc., Phoenix India Acquisition Corp., Quantex Capital Corp., QMAC Energy, Inc., QMed, Inc., Raduga Inc., Intercorp Excelle, Inc., RFP Express, Inc., Rockelle Corp., Remote Knowledge, Inc., Rosedale Decorative Products Ltd., ReSourcePhoenix.com, Inc., RedRoller Holdings, Inc., Response USA, Inc., RAM Venture Holdings Corp., RxElite, Inc., Scrip Advantage, Inc., SeaEscape Entertainment, Inc., Sherwood Brands, Inc., Stamford Industrial Group, Inc., Sivoo Holdings, Inc., SK Realty Ventures, Inc., Skyline Multimedia Entertainment, Inc., Solica, Inc., Sunnylife Global, Inc., Source Direct Holdings, Inc., Solei Systems, Inc., Shopsmith, Inc., Startec, Inc., Smart SMS Corp., SunStar Healthcare, Inc., SWMX, Inc., SweetskinZ Holdings, Inc., SkyMarkHoldings Inc., Synvista Therapeutics, Inc., Syratech Corp., Syzygy Entertainment, Ltd., Total Containment, Inc., Teknowledge Corp., TEK DigiTel Corp., The Fight Zone, Inc., Tidelands Oil & Gas Corp., Triad Innovations, Inc., Taj Systems, Inc., Tank Sports, Inc., TransferOrbit Corp., Tri-S Security Corp., TrueYou.com, Inc., Westwood Group, Inc. (The), Turning Wheel Holdings, Inc., TeleData World Services, Inc., Tianxin Mining (USA), Inc., Ultimate Franchise Systems, Inc., UpSnap, Inc., U.S. Aerospace, Inc., uWink, Inc., VCampus Corp., Vitalstate, Inc., Vzillion, Inc., We R You Corp., World Health Alternatives, Inc., WiFiMed Holdings Co., Inc., Wi-Fi TV, Inc., WebSky, Inc., Walker Financial Corp., World Logistics Services, Inc., World Am, Inc., Westlin Corp., Worldwide Auction Solutions, Inc., WWEBNET, Inc., XA, Inc., Xensor Corp. 500-1.

It appears to the Securities and Exchange Commission that there is a lack of current and accurate information concerning the securities of Able Energy, Inc. because questions have arisen as to its operating status, if any. Able Energy, Inc. is quoted on OTC Link operated by OTC Markets Group, Inc. under the ticker symbol “ABLE.”

It appears to the Securities and Exchange Commission that there is a lack of current and accurate information concerning the securities of ACI Global Corp. because questions have arisen as to its operating status, if any. ACI Global Corp. is quoted on OTC Link operated by OTC Markets Group, Inc. under the ticker symbol “ACGJ.”

It appears to the Securities and Exchange Commission that there is a lack of current and accurate information concerning the securities of Alternative Energy Development Corp. because questions have arisen as to its operating status, if any. Alternative Energy Development Corp. is quoted on OTC Link operated by OTC Markets Group, Inc. under the ticker symbol “ADEC.”

It appears to the Securities and Exchange Commission that there is a lack of current and accurate information concerning the securities of Allied Products Corp. because questions have arisen as to its operating status, if any. Allied Products Corp. is quoted on OTC Link operated by OTC Markets Group, Inc. under the ticker symbol “ADPC.”

It appears to the Securities and Exchange Commission that there is a lack of current and accurate information concerning the securities of AEC Holdings Corp. because questions have arisen as to its operating status, if any. AEC Holdings Corp. is quoted on OTC Link operated by OTC Markets Group, Inc. under the ticker symbol “AECS.”

It appears to the Securities and Exchange Commission that there is a lack of current and accurate information concerning the securities of Auction Floor, Inc. because questions have arisen as to its operating status, if any. Auction Floor, Inc. is quoted on OTC Link operated by OTC Markets Group, Inc. under the ticker symbol “AFLO.”

It appears to the Securities and Exchange Commission that there is a lack of current and accurate information concerning the securities of American Gold Resources Corp. because questions have arisen as to its operating status, if any. American Gold Resources Corp. is quoted on OTC Link operated by OTC Markets Group, Inc. under the ticker symbol “AGDO.”

It appears to the Securities and Exchange Commission that there is a lack of current and accurate information concerning the securities of Angus Energy Corp. because questions have arisen as to its operating status, if any. Angus Energy Corp. is quoted on OTC Link operated by OTC Markets Group, Inc. under the ticker symbol “AGSC.”

It appears to the Securities and Exchange Commission that there is a lack of current and accurate information concerning the securities of Ashby Corporation Ltd. because questions have arisen as to its operating status, if any. Ashby Corporation Ltd. is quoted on OTC Link operated by OTC Markets Group, Inc. under the ticker symbol “AHBY.”

It appears to the Securities and Exchange Commission that there is a lack of current and accurate information concerning the securities of Aksys, Ltd. because questions have arisen as to its operating status, if any. Aksys, Ltd. is quoted on OTC Link operated by OTC Markets Group, Inc. under the ticker symbol “AKSY.”

It appears to the Securities and Exchange Commission that there is a lack of current and accurate information concerning the securities of Allison Industries Ltd. because questions have arisen as to its operating status, if any. Allison Industries Ltd. is quoted on OTC Link operated by OTC Markets Group, Inc. under the ticker symbol “ALLD.”

It appears to the Securities and Exchange Commission that there is a lack of current and accurate information concerning the securities of Alchemy Creative, Inc. because questions have arisen as to its operating status, if any. Alchemy Creative, Inc. is quoted on OTC Link operated by OTC Markets Group, Inc. under the ticker symbol “ALMY.”

It appears to the Securities and Exchange Commission that there is a lack of current and accurate information concerning the securities of Allenergy Inc. because questions have arisen as to its operating status, if any. Allenergy Inc. is quoted on OTC Link operated by OTC Markets Group, Inc. under the ticker symbol “ALRY.”

It appears to the Securities and Exchange Commission that there is a lack of current and accurate information concerning the securities of American Green Group, Inc. because questions have arisen as to its operating status, if any. American Green Group, Inc. is quoted on OTC Link operated by OTC Markets Group, Inc. under the ticker symbol “AMNE.”

It appears to the Securities and Exchange Commission that there is a lack of current and accurate information concerning the securities of Anviron Holding Co. (The) because questions have arisen as to its operating status, if any. Anviron Holding Co. (The) is quoted on OTC Link operated by OTC Markets Group, Inc. under the ticker symbol “ANVH.”

It appears to the Securities and Exchange Commission that there is a lack of current and accurate information concerning the securities of American Patriot Corp. because questions have arisen as to its operating status, if any. American Patriot Corp. is quoted on OTC Link operated by OTC Markets Group, Inc. under the ticker symbol “APAT.”

It appears to the Securities and Exchange Commission that there is a lack of current and accurate information concerning the securities of Aquis Communications Group, Inc. because questions have arisen as to its operating status, if any. Aquis Communications Group, Inc. is quoted on OTC Link operated by OTC Markets Group, Inc. under the ticker symbol “AQIS.”

It appears to the Securities and Exchange Commission that there is a lack of current and accurate information concerning the securities of Aquamatrix, Inc. because questions have arisen as to its operating status, if any. Aquamatrix, Inc. is quoted on OTC Link operated by OTC Markets Group, Inc. under the ticker symbol “AQMT.”

It appears to the Securities and Exchange Commission that there is a lack of current and accurate information concerning the securities of ARTISTdirect, Inc. because questions have arisen as to its operating status, if any. ARTISTdirect, Inc. is quoted on OTC Link operated by OTC Markets Group, Inc. under the ticker symbol “ARTD.”

It appears to the Securities and Exchange Commission that there is a lack of current and accurate information concerning the securities of Ascendia Brands, Inc. because questions have arisen as to its operating status, if any. Ascendia Brands, Inc. is quoted on OTC Link operated by OTC Markets Group, Inc. under the ticker symbol “ASCBQ.”

It appears to the Securities and Exchange Commission that there is a lack of current and accurate information concerning the securities of Ausam Energy Corp. because questions have arisen as to its operating status, if any. Ausam Energy Corp. is quoted on OTC Link operated by OTC Markets Group, Inc. under the ticker symbol “ASMFQ.”

It appears to the Securities and Exchange Commission that there is a lack of current and accurate information concerning the securities of American TonerServe Corp. because questions have arisen as to its operating status, if any. American TonerServe Corp. is quoted on OTC Link operated by OTC Markets Group, Inc. under the ticker symbol “ASVPQ.”

It appears to the Securities and Exchange Commission that there is a lack of current and accurate information concerning the securities of Atlantis Plastics, Inc. because questions have arisen as to its operating status, if any. Atlantis Plastics, Inc. is quoted on OTC Link operated by OTC Markets Group, Inc. under the ticker symbol “ATPL.”

It appears to the Securities and Exchange Commission that there is a lack of current and accurate information concerning the securities of Axiom Management, Inc. because questions have arisen as to its operating status, if any. Axiom Management, Inc. is quoted on OTC Link operated by OTC Markets Group, Inc. under the ticker symbol “AXMA.”

It appears to the Securities and Exchange Commission that there is a lack of current and accurate information concerning the securities of BBMF Corp. because questions have arisen as to its operating status, if any. BBMF Corp. is quoted on OTC Link operated by OTC Markets Group, Inc. under the ticker symbol “BBMF.”

It appears to the Securities and Exchange Commission that there is a lack of current and accurate information concerning the securities of Barricini, Inc. because questions have arisen as to its operating status, if any. Barricini, Inc. is quoted on OTC Link operated by OTC Markets Group, Inc. under the ticker symbol “BCCC.”

It appears to the Securities and Exchange Commission that there is a lack of current and accurate information concerning the securities of Butterfield-Blair, Inc., d/b/a Novahead, Inc. because questions have arisen as to its operating status, if any. Butterfield-Blair, Inc., d/b/a Novahead, Inc. is quoted on OTC Link operated by OTC Markets Group, Inc. under the ticker symbol “BFBL.”

It appears to the Securities and Exchange Commission that there is a lack of current and accurate information concerning the securities of Laura (RONALD S.) Enterprises, Inc. because questions have arisen as to its operating status, if any. Laura (RONALD S.) Enterprises, Inc. is quoted on OTC Link operated by OTC Markets Group, Inc. under the ticker symbol “BFIT.”

It appears to the Securities and Exchange Commission that there is a lack of current and accurate information concerning the securities of b-Fast Corp. because questions have arisen as to its operating status, if any. b-Fast Corp. is quoted on OTC Link operated by OTC Markets Group, Inc. under the ticker symbol “BFTC.”

It appears to the Securities and Exchange Commission that there is a lack of current and accurate information concerning the securities of BioGold Fuels Corp. because questions have arisen as to its operating status, if any. BioGold Fuels Corp. is quoted on OTC Link operated by OTC Markets Group, Inc. under the ticker symbol “BIFC.”

It appears to the Securities and Exchange Commission that there is a lack of current and accurate information concerning the securities of Bioponic Phytoceuticals, Inc. because questions have arisen as to its operating status, if any. Bioponic Phytoceuticals, Inc. is quoted on OTC Link operated by OTC Markets Group, Inc. under the ticker symbol “BPYT.”

It appears to the Securities and Exchange Commission that there is a lack of current and accurate information concerning the securities of BrightStar Information Technology Group, Inc. because questions have arisen as to its operating status, if any BrightStar Information Technology Group, Inc. is quoted on OTC Link operated by OTC Markets Group, Inc. under the ticker symbol “BTSR.”

It appears to the Securities and Exchange Commission that there is a lack of current and accurate information concerning the securities of BAXL Holdings, Inc. because questions have arisen as to its operating status, if any. BAXL Holdings, Inc. is quoted on OTC Link operated by OTC Markets Group, Inc. under the ticker symbol “BXLH.”

It appears to the Securities and Exchange Commission that there is a lack of current and accurate information concerning the securities of Calibre Energy, Inc. because questions have arisen as to its operating status, if any. Calibre Energy, Inc. is quoted on OTC Link operated by OTC Markets Group, Inc. under the ticker symbol “CABE.”

It appears to the Securities and Exchange Commission that there is a lack of current and accurate information concerning the securities of Cambridge Resources Corp. because questions have arisen as to its operating status, if any. Cambridge Resources Corp. is quoted on OTC Link operated by OTC Markets Group, Inc. under the ticker symbol “CBRP.”

It appears to the Securities and Exchange Commission that there is a lack of current and accurate information concerning the securities of Capacitive Deionization Technologies Systems, Inc. because questions have arisen as to its operating status, if any. Capacitive Deionization Technologies Systems, Inc. is quoted on OTC Link operated by OTC Markets Group, Inc. under the ticker symbol “CDTN.”

It appears to the Securities and Exchange Commission that there is a lack of current and accurate information concerning the securities of Certified Environmental Group, Inc. because questions have arisen as to its operating status, if any. Certified Environmental Group, Inc. is quoted on OTC Link operated by OTC Markets Group, Inc. under the ticker symbol “CENV.”

It appears to the Securities and Exchange Commission that there is a lack of current and accurate information concerning the securities of Careguide, Inc. because questions have arisen as to its operating status, if any. Careguide, Inc. is quoted on OTC Link operated by OTC Markets Group, Inc. under the ticker symbol “CGUE.”

It appears to the Securities and Exchange Commission that there is a lack of current and accurate information concerning the securities of Chill Tech Industries, Inc. because questions have arisen as to its operating status, if any. Chill Tech Industries, Inc. is quoted on OTC Link operated by OTC Markets Group, Inc. under the ticker symbol “CHIL.”

It appears to the Securities and Exchange Commission that there is a lack of current and accurate information concerning the securities of Chatsworth Data Solutions, Inc. because questions have arisen as to its operating status, if any. Chatsworth Data Solutions, Inc. is quoted on OTC Link operated by OTC Markets Group, Inc. under the ticker symbol “CHWD.”

It appears to the Securities and Exchange Commission that there is a lack of current and accurate information concerning the securities of Caliber Energy, Inc. because questions have arisen as to its operating status, if any. Caliber Energy, Inc. is quoted on OTC Link operated by OTC Markets Group, Inc. under the ticker symbol “CLBN.”

It appears to the Securities and Exchange Commission that there is a lack of current and accurate information concerning the securities of Color Q, Inc. because questions have arisen as to its operating status, if any. Color Q, Inc. is quoted on OTC Link operated by OTC Markets Group, Inc. under the ticker symbol “CLOR.”

It appears to the Securities and Exchange Commission that there is a lack of current and accurate information concerning the securities of Consolidated American Industries Corp. because questions have arisen as to its operating status, if any. Consolidated American Industries Corp. is quoted on OTC Link operated by OTC Markets Group, Inc. under the ticker symbol “CMDJ.”

It appears to the Securities and Exchange Commission that there is a lack of current and accurate information concerning the securities of Corporate Media International, Inc. because questions have arisen as to its operating status, if any. Corporate Media International, Inc. is quoted on OTC Link operated by OTC Markets Group, Inc. under the ticker symbol “CMDL.”

It appears to the Securities and Exchange Commission that there is a lack of current and accurate information concerning the securities of China Oil & Methanol Group, Inc. because questions have arisen as to its operating status, if any. China Oil & Methanol Group, Inc. is quoted on OTC Link operated by OTC Markets Group, Inc. under the ticker symbol “CMNO.”

It appears to the Securities and Exchange Commission that there is a lack of current and accurate information concerning the securities of Comedia Corp. because questions have arisen as to its operating status, if any. Comedia Corp. is quoted on OTC Link operated by OTC Markets Group, Inc. under the ticker symbol “CMTN.”

It appears to the Securities and Exchange Commission that there is a lack of current and accurate information concerning the securities of Concorde America, Inc. because questions have arisen as to its operating status, if any. Concorde America, Inc. is quoted on OTC Link operated by OTC Markets Group, Inc. under the ticker symbol “CNDD.”

It appears to the Securities and Exchange Commission that there is a lack of current and accurate information concerning the securities of Custom Restaurant & Hospitality Group, Inc. (The) because questions have arisen as to its operating status, if any. Custom Restaurant & Hospitality Group, Inc. (The) is quoted on OTC Link operated by OTC Markets Group, Inc. under the ticker symbol “CRHY.”

It appears to the Securities and Exchange Commission that there is a lack of current and accurate information concerning the securities of Consolidated Biofuels, Inc. because questions have arisen as to its operating status, if any. Consolidated Biofuels, Inc. is quoted on OTC Link operated by OTC Markets Group, Inc. under the ticker symbol “CSBF.”

It appears to the Securities and Exchange Commission that there is a lack of current and accurate information concerning the securities of Creston Resources, Ltd. because questions have arisen as to its operating status, if any. Creston Resources, Ltd. is quoted on OTC Link operated by OTC Markets Group, Inc. under the ticker symbol “CSTJ.”

It appears to the Securities and Exchange Commission that there is a lack of current and accurate information concerning the securities of ClearStory Systems, Inc. because questions have arisen as to its operating status, if any. ClearStory Systems, Inc. is quoted on OTC Link operated by OTC Markets Group, Inc. under the ticker symbol “CSYS.”

It appears to the Securities and Exchange Commission that there is a lack of current and accurate information concerning the securities of Coattec Industries, Inc. because questions have arisen as to its operating status, if any. Coattec Industries, Inc. is quoted on OTC Link operated by OTC Markets Group, Inc. under the ticker symbol “CTCK.”

It appears to the Securities and Exchange Commission that there is a lack of current and accurate information concerning the securities of CO2 Tech Ltd. because questions have arisen as to its operating status, if any. CO2 Tech Ltd. is quoted on OTC Link operated by OTC Markets Group, Inc. under the ticker symbol “CTTD.”

It appears to the Securities and Exchange Commission that there is a lack of current and accurate information concerning the securities of Cardiovascular Sciences, Inc. because questions have arisen as to its operating status, if any. Cardiovascular Sciences, Inc. is quoted on OTC Link operated by OTC Markets Group, Inc. under the ticker symbol “CVSC.”

It appears to the Securities and Exchange Commission that there is a lack of current and accurate information concerning the securities of CyberCash, Inc. because questions have arisen as to its operating status, if any. CyberCash, Inc. is quoted on OTC Link operated by OTC Markets Group, Inc. under the ticker symbol “CYCHZ.”

It appears to the Securities and Exchange Commission that there is a lack of current and accurate information concerning the securities of Cheyenne Resources Corp. because questions have arisen as to its operating status, if any. Cheyenne Resources Corp. is quoted on OTC Link operated by OTC Markets Group, Inc. under the ticker symbol “CYRS.”

It appears to the Securities and Exchange Commission that there is a lack of current and accurate information concerning the securities of DAL International Ltd. because questions have arisen as to its operating status, if any. DAL International Ltd. is quoted on OTC Link operated by OTC Markets Group, Inc. under the ticker symbol “DALN.”

It appears to the Securities and Exchange Commission that there is a lack of current and accurate information concerning the securities of Digital Fusion Multimedia Corp. because questions have arisen as to its operating status, if any. Digital Fusion Multimedia Corp. is quoted on OTC Link operated by OTC Markets Group, Inc. under the ticker symbol “DFMCF.”

It appears to the Securities and Exchange Commission that there is a lack of current and accurate information concerning the securities of DealerAdvance, Inc. because questions have arisen as to its operating status, if any. DealerAdvance, Inc. is quoted on OTC Link operated by OTC Markets Group, Inc. under the ticker symbol “DLAD.”

It appears to the Securities and Exchange Commission that there is a lack of current and accurate information concerning the securities of DataLogic International, Inc. because questions have arisen as to its operating status, if any. DataLogic International, Inc. is quoted on OTC Link operated by OTC Markets Group, Inc. under the ticker symbol “DLGI.”

It appears to the Securities and Exchange Commission that there is a lack of current and accurate information concerning the securities of Datamarine International, Inc. because questions have arisen as to its operating status, if any. Datamarine International, Inc. is quoted on OTC Link operated by OTC Markets Group, Inc. under the ticker symbol “DMAR.”

It appears to the Securities and Exchange Commission that there is a lack of current and accurate information concerning the securities of Domestic Energy Corp. because questions have arisen as to its operating status, if any. Domestic Energy Corp. is quoted on OTC Link operated by OTC Markets Group, Inc. under the ticker symbol “DMEC.”

It appears to the Securities and Exchange Commission that there is a lack of current and accurate information concerning the securities of DNAPrint Genomics, Inc. because questions have arisen as to its operating status, if any. DNAPrint Genomics, Inc. is quoted on OTC Link operated by OTC Markets Group, Inc. under the ticker symbol “DNAG.”

It appears to the Securities and Exchange Commission that there is a lack of current and accurate information concerning the securities of Deep Earth Resources, Inc. because questions have arisen as to its operating status, if any. Deep Earth Resources, Inc. is quoted on OTC Link operated by OTC Markets Group, Inc. under the ticker symbol “DPER.”

It appears to the Securities and Exchange Commission that there is a lack of current and accurate information concerning the securities of Deep Field Technologies, Inc. because questions have arisen as to its operating status, if any. Deep Field Technologies, Inc. is quoted on OTC Link operated by OTC Markets Group, Inc. under the ticker symbol “DPFD.”

It appears to the Securities and Exchange Commission that there is a lack of current and accurate information concerning the securities of Direct Coating, Inc. because questions have arisen as to its operating status, if any. Direct Coating, Inc. is quoted on OTC Link operated by OTC Markets Group, Inc. under the ticker symbol “DTCO.”

It appears to the Securities and Exchange Commission that there is a lack of current and accurate information concerning the securities of Display Technologies, Inc. because questions have arisen as to its operating status, if any. Display Technologies, Inc. is quoted on OTC Link operated by OTC Markets Group, Inc. under the ticker symbol “DTEK.”

It appears to the Securities and Exchange Commission that there is a lack of current and accurate information concerning the securities of DiaSys Corp. because questions have arisen as to its operating status, if any. DiaSys Corp. is quoted on OTC Link operated by OTC Markets Group, Inc. under the ticker symbol “DYXC.”

It appears to the Securities and Exchange Commission that there is a lack of current and accurate information concerning the securities of eAutoclaims, Inc. because questions have arisen as to its operating status, if any. eAutoclaims, Inc. is quoted on OTC Link operated by OTC Markets Group, Inc. under the ticker symbol “EACC.”

It appears to the Securities and Exchange Commission that there is a lack of current and accurate information concerning the securities of EnterConnect Inc. because questions have arisen as to its operating status, if any. EnterConnect Inc. is quoted on OTC Link operated by OTC Markets Group, Inc. under the ticker symbol “ECNI.”

It appears to the Securities and Exchange Commission that there is a lack of current and accurate information concerning the securities of Effective Control Transport, Inc. because questions have arisen as to its operating status, if any. Effective Control Transport, Inc. is quoted on OTC Link operated by OTC Markets Group, Inc. under the ticker symbol “EFFC.”

It appears to the Securities and Exchange Commission that there is a lack of current and accurate information concerning the securities of EdgeTech International, Inc. because questions have arisen as to its operating status, if any. EdgeTech International, Inc. is quoted on OTC Link operated by OTC Markets Group, Inc. under the ticker symbol “EGIL.”

It appears to the Securities and Exchange Commission that there is a lack of current and accurate information concerning the securities of Eagle Ventures International, Inc. because questions have arisen as to its operating status, if any. Eagle Ventures International, Inc. is quoted on OTC Link operated by OTC Markets Group, Inc. under the ticker symbol “EGVIQ.”

It appears to the Securities and Exchange Commission that there is a lack of current and accurate information concerning the securities of Electric & Gas Technology, Inc. because questions have arisen as to its operating status, if any. Electric & Gas Technology, Inc. is quoted on OTC Link operated by OTC Markets Group, Inc. under the ticker symbol “ELGT.”

It appears to the Securities and Exchange Commission that there is a lack of current and accurate information concerning the securities of Electric Motors Corp. because questions have arisen as to its operating status, if any. Electric Motors Corp. is quoted on OTC Link operated by OTC Markets Group, Inc. under the ticker symbol “EMCO.”

It appears to the Securities and Exchange Commission that there is a lack of current and accurate information concerning the securities of Encore Energy Systems, Inc. because questions have arisen as to its operating status, if any. Encore Energy Systems, Inc. is quoted on OTC Link operated by OTC Markets Group, Inc. under the ticker symbol “ENCS.”

It appears to the Securities and Exchange Commission that there is a lack of current and accurate information concerning the securities of E' Prime Aerospace Corp. because questions have arisen as to its operating status, if any. E' Prime Aerospace Corp. is quoted on OTC Link operated by OTC Markets Group, Inc. under the ticker symbol “EPEO.”

It appears to the Securities and Exchange Commission that there is a lack of current and accurate information concerning the securities of Environmental Power Corp. because questions have arisen as to its operating status, if any. Environmental Power Corp. is quoted on OTC Link operated by OTC Markets Group, Inc. under the ticker symbol “EPGRQ.”

It appears to the Securities and Exchange Commission that there is a lack of current and accurate information concerning the securities of Eagle Resource Holdings, Inc. because questions have arisen as to its operating status, if any. Eagle Resource Holdings, Inc. is quoted on OTC Link operated by OTC Markets Group, Inc. under the ticker symbol “ERHI.”

It appears to the Securities and Exchange Commission that there is a lack of current and accurate information concerning the securities of ER Urgent Care Holdings, Inc. because questions have arisen as to its operating status, if any. ER Urgent Care Holdings, Inc. is quoted on OTC Link operated by OTC Markets Group, Inc. under the ticker symbol “ERUC.”

It appears to the Securities and Exchange Commission that there is a lack of current and accurate information concerning the securities of Estore of N.Y., Inc. because questions have arisen as to its operating status, if any. Estore of N.Y., Inc. is quoted on OTC Link operated by OTC Markets Group, Inc. under the ticker symbol “ESNY.”

It appears to the Securities and Exchange Commission that there is a lack of current and accurate information concerning the securities of Exact Energy Resources, Inc. because questions have arisen as to its operating status, if any. Exact Energy Resources, Inc. is quoted on OTC Link operated by OTC Markets Group, Inc. under the ticker symbol “EXER.”

It appears to the Securities and Exchange Commission that there is a lack of current and accurate information concerning the securities of Freedom Bank (Bradenton, FL) because questions have arisen as to its operating status, if any. Freedom Bank (Bradenton, FL) is quoted on OTC Link operated by OTC Markets Group, Inc. under the ticker symbol “FBBF.”

It appears to the Securities and Exchange Commission that there is a lack of current and accurate information concerning the securities of 4-D Neuroimaging because questions have arisen as to its operating status, if any. 4-D Neuroimaging is quoted on OTC Link operated by OTC Markets Group, Inc. under the ticker symbol “FDNU.”

It appears to the Securities and Exchange Commission that there is a lack of current and accurate information concerning the securities of Federated Purchaser, Inc. because questions have arisen as to its operating status, if any. Federated Purchaser, Inc. is quoted on OTC Link operated by OTC Markets Group, Inc. under the ticker symbol “FEDP.”

It appears to the Securities and Exchange Commission that there is a lack of current and accurate information concerning the securities of Forefront Holdings, Inc. because questions have arisen as to its operating status, if any. Forefront Holdings, Inc. is quoted on OTC Link operated by OTC Markets Group, Inc. under the ticker symbol “FFHN.”

It appears to the Securities and Exchange Commission that there is a lack of current and accurate information concerning the securities of First Montauk Financial Corp. because questions have arisen as to its operating status, if any. First Montauk Financial Corp. is quoted on OTC Link operated by OTC Markets Group, Inc. under the ticker symbol “FMFN.”

It appears to the Securities and Exchange Commission that there is a lack of current and accurate information concerning the securities of First Mortgage Corp. because questions have arisen as to its operating status, if any. First Mortgage Corp. is quoted on OTC Link operated by OTC Markets Group, Inc. under the ticker symbol “FMOR.”

It appears to the Securities and Exchange Commission that there is a lack of current and accurate information concerning the securities of First National Entertainment Corp. because questions have arisen as to its operating status, if any. First National Entertainment Corp is quoted on OTC Link operated by OTC Markets Group, Inc. under the ticker symbol “FNAT.”

It appears to the Securities and Exchange Commission that there is a lack of current and accurate information concerning the securities of Finch Pruyn & Co., Inc. because questions have arisen as to its operating status, if any. Finch Pruyn & Co., Inc. is quoted on OTC Link operated by OTC Markets Group, Inc. under the ticker symbol “FPCNB.”

It appears to the Securities and Exchange Commission that there is a lack of current and accurate information concerning the securities of Flair Petroleum Corp. because questions have arisen as to its operating status, if any. Flair Petroleum Corp. is quoted on OTC Link operated by OTC Markets Group, Inc. under the ticker symbol “FPMC.”

It appears to the Securities and Exchange Commission that there is a lack of current and accurate information concerning the securities of fSONA Systems Corp. because questions have arisen as to its operating status, if any. fSONA Systems Corp. is quoted on OTC Link operated by OTC Markets Group, Inc. under the ticker symbol “FSON.”

It appears to the Securities and Exchange Commission that there is a lack of current and accurate information concerning the securities of Grand Adventures Tour & Travel Publishing Corp. because questions have arisen as to its operating status, if any. Grand Adventures Tour & Travel Publishing Corp. is quoted on OTC Link operated by OTC Markets Group, Inc. under the ticker symbol “GATT.”

It appears to the Securities and Exchange Commission that there is a lack of current and accurate information concerning the securities of Global Materials & Services, Inc. because questions have arisen as to its operating status, if any. Global Materials & Services, Inc. is quoted on OTC Link operated by OTC Markets Group, Inc. under the ticker symbol “GBMS.”

It appears to the Securities and Exchange Commission that there is a lack of current and accurate information concerning the securities of Global Industrial Services, Inc. because questions have arisen as to its operating status, if any. Global Industrial Services, Inc. is quoted on OTC Link operated by OTC Markets Group, Inc. under the ticker symbol “GBSV.”

It appears to the Securities and Exchange Commission that there is a lack of current and accurate information concerning the securities of Geerlings & Wade, Inc. because questions have arisen as to its operating status, if any. Geerlings & Wade, Inc. is quoted on OTC Link operated by OTC Markets Group, Inc. under the ticker symbol “GEER.”

It appears to the Securities and Exchange Commission that there is a lack of current and accurate information concerning the securities of Geotel, Inc. because questions have arisen as to its operating status, if any. Geotel, Inc. is quoted on OTC Link operated by OTC Markets Group, Inc. under the ticker symbol “GETE.”

It appears to the Securities and Exchange Commission that there is a lack of current and accurate information concerning the securities of Global IT Holdings, Inc. because questions have arisen as to its operating status, if any. Global IT Holdings, Inc. is quoted on OTC Link operated by OTC Markets Group, Inc. under the ticker symbol “GITH.”

It appears to the Securities and Exchange Commission that there is a lack of current and accurate information concerning the securities of Grand Entertainment & Music, Inc. because questions have arisen as to its operating status, if any. Grand Entertainment & Music, Inc. is quoted on OTC Link operated by OTC Markets Group, Inc. under the ticker symbol “GMSC.”

It appears to the Securities and Exchange Commission that there is a lack of current and accurate information concerning the securities of Geeks On Call Holdings, Inc. because questions have arisen as to its operating status, if any. Geeks On Call Holdings, Inc. is quoted on OTC Link operated by OTC Markets Group, Inc. under the ticker symbol “GOCH.”

It appears to the Securities and Exchange Commission that there is a lack of current and accurate information concerning the securities of Grayling Wireless USA, Inc. because questions have arisen as to its operating status, if any. Grayling Wireless USA, Inc. is quoted on OTC Link operated by OTC Markets Group, Inc. under the ticker symbol “GRYW.”

It appears to the Securities and Exchange Commission that there is a lack of current and accurate information concerning the securities of Gold Coast Resources, Inc. because questions have arisen as to its operating status, if any. Gold Coast Resources, Inc. is quoted on OTC Link operated by OTC Markets Group, Inc. under the ticker symbol “GSRS.”

It appears to the Securities and Exchange Commission that there is a lack of current and accurate information concerning the securities of Harvest Bio-Organic International Co., Ltd. because questions have arisen as to its operating status, if any. Harvest Bio-Organic International Co., Ltd. is quoted on OTC Link operated by OTC Markets Group, Inc. under the ticker symbol “HBOI.”

It appears to the Securities and Exchange Commission that there is a lack of current and accurate information concerning the securities of HC Innovations, Inc. because questions have arisen as to its operating status, if any. HC Innovations, Inc. is quoted on OTC Link operated by OTC Markets Group, Inc. under the ticker symbol “HCNVQ.”

It appears to the Securities and Exchange Commission that there is a lack of current and accurate information concerning the securities of HealthGate Data Corp. because questions have arisen as to its operating status, if any. HealthGate Data Corp. is quoted on OTC Link operated by OTC Markets Group, Inc. under the ticker symbol “HGAT.”

It appears to the Securities and Exchange Commission that there is a lack of current and accurate information concerning the securities of Hastings Manufacturing Co. because questions have arisen as to its operating status, if any. Hastings Manufacturing Co. is quoted on OTC Link operated by OTC Markets Group, Inc. under the ticker symbol “HGMG.”

It appears to the Securities and Exchange Commission that there is a lack of current and accurate information concerning the securities of Hemi Energy Group, Inc. because questions have arisen as to its operating status, if any. Hemi Energy Group, Inc. is quoted on OTC Link operated by OTC Markets Group, Inc. under the ticker symbol “HMGP.”

It appears to the Securities and Exchange Commission that there is a lack of current and accurate information concerning the securities of Hemisphere Gold, Inc. because questions have arisen as to its operating status, if any. Hemisphere Gold, Inc. is quoted on OTC Link operated by OTC Markets Group, Inc. under the ticker symbol “HPGI.”

It appears to the Securities and Exchange Commission that there is a lack of current and accurate information concerning the securities of Harold's Stores, Inc. because questions have arisen as to its operating status, if any. Harold's Stores, Inc. is quoted on OTC Link operated by OTC Markets Group, Inc. under the ticker symbol “HRLSQ.”

It appears to the Securities and Exchange Commission that there is a lack of current and accurate information concerning the securities of H3 Enterprises, Inc. because questions have arisen as to its operating status, if any. H3 Enterprises, Inc is quoted on OTC Link operated by OTC Markets Group, Inc. under the ticker symbol “HTRE.”

It appears to the Securities and Exchange Commission that there is a lack of current and accurate information concerning the securities of Henley L.P. because questions have arisen as to its operating status, if any. Henley L.P. is quoted on OTC Link operated by OTC Markets Group, Inc. under the ticker symbol “HYNLZ.”

It appears to the Securities and Exchange Commission that there is a lack of current and accurate information concerning the securities of IBSG International, Inc. because questions have arisen as to its operating status, if any. IBSG International, Inc. is quoted on OTC Link operated by OTC Markets Group, Inc. under the ticker symbol “IBIN.”

It appears to the Securities and Exchange Commission that there is a lack of current and accurate information concerning the securities of Impact E Solutions Corp. because questions have arisen as to its operating status, if any. Impact E Solutions Corp. is quoted on OTC Link operated by OTC Markets Group, Inc. under the ticker symbol “IESO.”

It appears to the Securities and Exchange Commission that there is a lack of current and accurate information concerning the securities of Interfac Mining, Inc. because questions have arisen as to its operating status, if any. Interfac Mining, Inc. is quoted on OTC Link operated by OTC Markets Group, Inc. under the ticker symbol “IFAC.”

It appears to the Securities and Exchange Commission that there is a lack of current and accurate information concerning the securities of IFSA Strongman, Inc. because questions have arisen as to its operating status, if any. IFSA Strongman, Inc. is quoted on OTC Link operated by OTC Markets Group, Inc. under the ticker symbol “IFST.”

It appears to the Securities and Exchange Commission that there is a lack of current and accurate information concerning the securities of Ignis Petroleum Group, Inc. because questions have arisen as to its operating status, if any. Ignis Petroleum Group, Inc. is quoted on OTC Link operated by OTC Markets Group, Inc. under the ticker symbol “IGPG.”

It appears to the Securities and Exchange Commission that there is a lack of current and accurate information concerning the securities of Innovative Impact Design, Inc. because questions have arisen as to its operating status, if any. Innovative Impact Design, Inc. is quoted on OTC Link operated by OTC Markets Group, Inc. under the ticker symbol “IIDG.”

It appears to the Securities and Exchange Commission that there is a lack of current and accurate information concerning the securities of International Airline Support Group, Inc. because questions have arisen as to its operating status, if any. International Airline Support Group, Inc. is quoted on OTC Link operated by OTC Markets Group, Inc. under the ticker symbol “ILAS.”

It appears to the Securities and Exchange Commission that there is a lack of current and accurate information concerning the securities of ImageMax, Inc. because questions have arisen as to its operating status, if any. ImageMax, Inc. is quoted on OTC Link operated by OTC Markets Group, Inc. under the ticker symbol “IMAG.”

It appears to the Securities and Exchange Commission that there is a lack of current and accurate information concerning the securities of Infinity Medical Group, Inc. because questions have arisen as to its operating status, if any. Infinity Medical Group, Inc. is quoted on OTC Link operated by OTC Markets Group, Inc. under the ticker symbol “IMGR.”

It appears to the Securities and Exchange Commission that there is a lack of current and accurate information concerning the securities of Immune-Tree International, Inc. because questions have arisen as to its operating status, if any. Immune-Tree International, Inc. is quoted on OTC Link operated by OTC Markets Group, Inc. under the ticker symbol “IMUT.”

It appears to the Securities and Exchange Commission that there is a lack of current and accurate information concerning the securities of Introgen Therapeutics, Inc. because questions have arisen as to its operating status, if any. Introgen Therapeutics, Inc. is quoted on OTC Link operated by OTC Markets Group, Inc. under the ticker symbol “INGNQ.”

It appears to the Securities and Exchange Commission that there is a lack of current and accurate information concerning the securities of Interep National Radio Sales, Inc. because questions have arisen as to its operating status, if any. Interep National Radio Sales, Inc. is quoted on OTC Link operated by OTC Markets Group, Inc. under the ticker symbol “IREP.”

It appears to the Securities and Exchange Commission that there is a lack of current and accurate information concerning the securities of Isonics Corp. because questions have arisen as to its operating status, if any. Isonics Corp. is quoted on OTC Link operated by OTC Markets Group, Inc. under the ticker symbol “ISON.”

It appears to the Securities and Exchange Commission that there is a lack of current and accurate information concerning the securities of Integrated Data Corp. because questions have arisen as to its operating status, if any. Integrated Data Corp. is quoted on OTC Link operated by OTC Markets Group, Inc. under the ticker symbol “ITDD.”

It appears to the Securities and Exchange Commission that there is a lack of current and accurate information concerning the securities of Integrated Water Resources, Inc. because questions have arisen as to its operating status, if any. Integrated Water Resources, Inc. is quoted on OTC Link operated by OTC Markets Group, Inc. under the ticker symbol “IWRI.”

It appears to the Securities and Exchange Commission that there is a lack of current and accurate information concerning the securities of IX Energy Holdings, Inc. because questions have arisen as to its operating status, if any. IX Energy Holdings, Inc. is quoted on OTC Link operated by OTC Markets Group, Inc. under the ticker symbol “IXEH.”

It appears to the Securities and Exchange Commission that there is a lack of current and accurate information concerning the securities of Itzyourmall, Inc. because questions have arisen as to its operating status, if any. Itzyourmall, Inc. is quoted on OTC Link operated by OTC Markets Group, Inc. under the ticker symbol “IZML.”

It appears to the Securities and Exchange Commission that there is a lack of current and accurate information concerning the securities of Jinhua Marine Biological (USA), Inc. because questions have arisen as to its operating status, if any. Jinhua Marine Biological (USA), Inc. is quoted on OTC Link operated by OTC Markets Group, Inc. under the ticker symbol “JNMB.”

It appears to the Securities and Exchange Commission that there is a lack of current and accurate information concerning the securities of Juniper Content Corp. because questions have arisen as to its operating status, if any. Juniper Content Corp. is quoted on OTC Link operated by OTC Markets Group, Inc. under the ticker symbol “JNPC.”

It appears to the Securities and Exchange Commission that there is a lack of current and accurate information concerning the securities of Karat Platinum, Inc. because questions have arisen as to its operating status, if any. Karat Platinum, Inc. is quoted on OTC Link operated by OTC Markets Group, Inc. under the ticker symbol “KRAT.”

It appears to the Securities and Exchange Commission that there is a lack of current and accurate information concerning the securities of Karver International, Inc. because questions have arisen as to its operating status, if any. Karver International, Inc. is quoted on OTC Link operated by OTC Markets Group, Inc. under the ticker symbol “KRVR.”

It appears to the Securities and Exchange Commission that there is a lack of current and accurate information concerning the securities of LDF Inc. because questions have arisen as to its operating status, if any. LDF Inc. is quoted on OTC Link operated by OTC Markets Group, Inc. under the ticker symbol “LDFI.”

It appears to the Securities and Exchange Commission that there is a lack of current and accurate information concerning the securities of Logistical Support, Inc. because questions have arisen as to its operating status, if any. Logistical Support, Inc. is quoted on OTC Link operated by OTC Markets Group, Inc. under the ticker symbol “LGSL.”

It appears to the Securities and Exchange Commission that there is a lack of current and accurate information concerning the securities of LifeHouse Retirement Properties, Inc. because questions have arisen as to its operating status, if any. LifeHouse Retirement Properties, Inc. is quoted on OTC Link operated by OTC Markets Group, Inc. under the ticker symbol “LHRP.”

It appears to the Securities and Exchange Commission that there is a lack of current and accurate information concerning the securities of Link Plus Corp. because questions have arisen as to its operating status, if any. Link Plus Corp. is quoted on OTC Link operated by OTC Markets Group, Inc. under the ticker symbol “LKPL.”

It appears to the Securities and Exchange Commission that there is a lack of current and accurate information concerning the securities of ShoLodge, Inc. because questions have arisen as to its operating status, if any. ShoLodge, Inc. is quoted on OTC Link operated by OTC Markets Group, Inc. under the ticker symbol “LODG.”

It appears to the Securities and Exchange Commission that there is a lack of current and accurate information concerning the securities of Latin American Telecommunications Venture Company because questions have arisen as to its operating status, if any. Latin American Telecommunications Venture Company is quoted on OTC Link operated by OTC Markets Group, Inc. under the ticker symbol “LTTV.”

It appears to the Securities and Exchange Commission that there is a lack of current and accurate information concerning the securities of Las Vegas Central Reservations Corp. because questions have arisen as to its operating status, if any. Las Vegas Central Reservations Corp. is quoted on OTC Link operated by OTC Markets Group, Inc. under the ticker symbol “LVCC.”

It appears to the Securities and Exchange Commission that there is a lack of current and accurate information concerning the securities of Lottery & Wagering Solutions, Inc. because questions have arisen as to its operating status, if any. Lottery & Wagering Solutions, Inc. is quoted on OTC Link operated by OTC Markets Group, Inc. under the ticker symbol “LWSL.”

It appears to the Securities and Exchange Commission that there is a lack of current and accurate information concerning the securities of Luxon Holdings, Inc. because questions have arisen as to its operating status, if any. Luxon Holdings, Inc. is quoted on OTC Link operated by OTC Markets Group, Inc. under the ticker symbol “LXHD.”

It appears to the Securities and Exchange Commission that there is a lack of current and accurate information concerning the securities of Mobile Entertainment, Inc. because questions have arisen as to its operating status, if any. Mobile Entertainment, Inc. is quoted on OTC Link operated by OTC Markets Group, Inc. under the ticker symbol “MBEI.”

It appears to the Securities and Exchange Commission that there is a lack of current and accurate information concerning the securities of Master Distribution Systems, Inc. because questions have arisen as to its operating status, if any. Master Distribution Systems, Inc. is quoted on OTC Link operated by OTC Markets Group, Inc. under the ticker symbol “MDBS.”

It appears to the Securities and Exchange Commission that there is a lack of current and accurate information concerning the securities of MDM Group, Inc. because questions have arisen as to its operating status, if any. MDM Group, Inc. is quoted on OTC Link operated by OTC Markets Group, Inc. under the ticker symbol “MDDM.”

It appears to the Securities and Exchange Commission that there is a lack of current and accurate information concerning the securities of Medical Finance, Inc. because questions have arisen as to its operating status, if any. Medical Finance, Inc. is quoted on OTC Link operated by OTC Markets Group, Inc. under the ticker symbol “MFIN.”

It appears to the Securities and Exchange Commission that there is a lack of current and accurate information concerning the securities of MagStar Technologies, Inc. because questions have arisen as to its operating status, if any. MagStar Technologies, Inc. is quoted on OTC Link operated by OTC Markets Group, Inc. under the ticker symbol “MGSR.”

It appears to the Securities and Exchange Commission that there is a lack of current and accurate information concerning the securities of Moore-Handley, Inc. because questions have arisen as to its operating status, if any. Moore-Handley, Inc. is quoted on OTC Link operated by OTC Markets Group, Inc. under the ticker symbol “MHCO.”

It appears to the Securities and Exchange Commission that there is a lack of current and accurate information concerning the securities of MicroMed Cardiovascular, Inc. because questions have arisen as to its operating status, if any. MicroMed Cardiovascular, Inc. is quoted on OTC Link operated by OTC Markets Group, Inc. under the ticker symbol “MMCO.”

It appears to the Securities and Exchange Commission that there is a lack of current and accurate information concerning the securities of Market 99 Ltd. because questions have arisen as to its operating status, if any. Market 99 Ltd. is quoted on OTC Link operated by OTC Markets Group, Inc. under the ticker symbol “MNTY.”

It appears to the Securities and Exchange Commission that there is a lack of current and accurate information concerning the securities of Merco Sud Agro-Financial Equities Corp. because questions have arisen as to its operating status, if any. Merco Sud Agro-Financial Equities Corp. is quoted on OTC Link operated by OTC Markets Group, Inc. under the ticker symbol “MSDG.”

It appears to the Securities and Exchange Commission that there is a lack of current and accurate information concerning the securities of MSH Entertainment Corp. because questions have arisen as to its operating status, if any. MSH Entertainment Corp. is quoted on OTC Link operated by OTC Markets Group, Inc. under the ticker symbol “MSHE.”

It appears to the Securities and Exchange Commission that there is a lack of current and accurate information concerning the securities of Mascot Silver-Lead Mines, Inc. because questions have arisen as to its operating status, if any. Mascot Silver-Lead Mines, Inc. is quoted on OTC Link operated by OTC Markets Group, Inc. under the ticker symbol “MSLM.”

It appears to the Securities and Exchange Commission that there is a lack of current and accurate information concerning the securities of Monarch Staffing, Inc. because questions have arisen as to its operating status, if any. Monarch Staffing, Inc. is quoted on OTC Link operated by OTC Markets Group, Inc. under the ticker symbol “MSTF.”

It appears to the Securities and Exchange Commission that there is a lack of current and accurate information concerning the securities of MitoPharm Corp. because questions have arisen as to its operating status, if any. MitoPharm Corp. is quoted on OTC Link operated by OTC Markets Group, Inc. under the ticker symbol “MTPH.”

It appears to the Securities and Exchange Commission that there is a lack of current and accurate information concerning the securities of My Healthy Access, Inc. because questions have arisen as to its operating status, if any. My Healthy Access, Inc. is quoted on OTC Link operated by OTC Markets Group, Inc. under the ticker symbol “MYHA.”

It appears to the Securities and Exchange Commission that there is a lack of current and accurate information concerning the securities of New China Ventures, Ltd. because questions have arisen as to its operating status, if any. New China Ventures, Ltd. is quoted on OTC Link operated by OTC Markets Group, Inc. under the ticker symbol “NCVL.”

It appears to the Securities and Exchange Commission that there is a lack of current and accurate information concerning the securities of New Dover Capital Corp. because questions have arisen as to its operating status, if any. New Dover Capital Corp. is quoted on OTC Link operated by OTC Markets Group, Inc. under the ticker symbol “NDVR.”

It appears to the Securities and Exchange Commission that there is a lack of current and accurate information concerning the securities of New Generation Technology Holding Inc. because questions have arisen as to its operating status, if any. New Generation Technology Holding Inc. is quoted on OTC Link operated by OTC Markets Group, Inc. under the ticker symbol “NGTY.”

It appears to the Securities and Exchange Commission that there is a lack of current and accurate information concerning the securities of North Country Hospitality, Inc. because questions have arisen as to its operating status, if any. North Country Hospitality, Inc. is quoted on OTC Link operated by OTC Markets Group, Inc. under the ticker symbol “NHSP.”

It appears to the Securities and Exchange Commission that there is a lack of current and accurate information concerning the securities of National Medical Financial Services Corporation because questions have arisen as to its operating status, if any. National Medical Financial Services Corporation is quoted on OTC Link operated by OTC Markets Group, Inc. under the ticker symbol “NMFS.”

It appears to the Securities and Exchange Commission that there is a lack of current and accurate information concerning the securities of National Maintenance Group, Inc. because questions have arisen as to its operating status, if any. National Maintenance Group, Inc. is quoted on OTC Link operated by OTC Markets Group, Inc. under the ticker symbol “NMGP.”

It appears to the Securities and Exchange Commission that there is a lack of current and accurate information concerning the securities of NutriOne Corp. because questions have arisen as to its operating status, if any. NutriOne Corp. is quoted on OTC Link operated by OTC Markets Group, Inc. under the ticker symbol “NNCP.”

It appears to the Securities and Exchange Commission that there is a lack of current and accurate information concerning the securities of Nostalgia Network, Inc. (The) because questions have arisen as to its operating status, if any. Nostalgia Network, Inc. (The) is quoted on OTC Link operated by OTC Markets Group, Inc. under the ticker symbol “NNET.”

It appears to the Securities and Exchange Commission that there is a lack of current and accurate information concerning the securities of NP Energy Corp. because questions have arisen as to its operating status, if any. NP Energy Corp. is quoted on OTC Link operated by OTC Markets Group, Inc. under the ticker symbol “NPER.”

It appears to the Securities and Exchange Commission that there is a lack of current and accurate information concerning the securities of Narrowstep, Inc. because questions have arisen as to its operating status, if any. Narrowstep, Inc. is quoted on OTC Link operated by OTC Markets Group, Inc. under the ticker symbol “NRWS.”

It appears to the Securities and Exchange Commission that there is a lack of current and accurate information concerning the securities of NS8 Corp. because questions have arisen as to its operating status, if any. NS8 Corp. is quoted on OTC Link operated by OTC Markets Group, Inc. under the ticker symbol “NSEO.”

It appears to the Securities and Exchange Commission that there is a lack of current and accurate information concerning the securities of Navitone Technologies, Inc. because questions have arisen as to its operating status, if any. Navitone Technologies, Inc. is quoted on OTC Link operated by OTC Markets Group, Inc. under the ticker symbol “NVTN.”

It appears to the Securities and Exchange Commission that there is a lack of current and accurate information concerning the securities of North West Oil Group, Inc. because questions have arisen as to its operating status, if any. North West Oil Group, Inc. is quoted on OTC Link operated by OTC Markets Group, Inc. under the ticker symbol “NWOL.”

It appears to the Securities and Exchange Commission that there is a lack of current and accurate information concerning the securities of Nextera Enterprises, Inc. because questions have arisen as to its operating status, if any. Nextera Enterprises, Inc. is quoted on OTC Link operated by OTC Markets Group, Inc. under the ticker symbol “NXRA.”

It appears to the Securities and Exchange Commission that there is a lack of current and accurate information concerning the securities of Nyvatex Oil Corporation (The) because questions have arisen as to its operating status, if any. Nyvatex Oil Corporation (The) is quoted on OTC Link operated by OTC Markets Group, Inc. under the ticker symbol “NYVA.”

It appears to the Securities and Exchange Commission that there is a lack of current and accurate information concerning the securities of Obee's Franchise Systems, Inc. because questions have arisen as to its operating status, if any. Obee's Franchise Systems, Inc. is quoted on OTC Link operated by OTC Markets Group, Inc. under the ticker symbol “OBEE.”

It appears to the Securities and Exchange Commission that there is a lack of current and accurate information concerning the securities of Ofek Capital Corp. because questions have arisen as to its operating status, if any. Ofek Capital Corp. is quoted on OTC Link operated by OTC Markets Group, Inc. under the ticker symbol “OFEK.”

It appears to the Securities and Exchange Commission that there is a lack of current and accurate information concerning the securities of CEVA International, Inc. because questions have arisen as to its operating status, if any. CEVA International, Inc. is quoted on OTC Link operated by OTC Markets Group, Inc. under the ticker symbol “OROB.”

It appears to the Securities and Exchange Commission that there is a lack of current and accurate information concerning the securities of Online Sales Strategies, Inc. because questions have arisen as to its operating status, if any. Online Sales Strategies, Inc. is quoted on OTC Link operated by OTC Markets Group, Inc. under the ticker symbol “OSSI.”

It appears to the Securities and Exchange Commission that there is a lack of current and accurate information concerning the securities of Panacos Pharmaceuticals, Inc. because questions have arisen as to its operating status, if any. Panacos Pharmaceuticals, Inc. is quoted on OTC Link operated by OTC Markets Group, Inc. under the ticker symbol “PANC.”

It appears to the Securities and Exchange Commission that there is a lack of current and accurate information concerning the securities of Patio Bahia Inc. because questions have arisen as to its operating status, if any. Patio Bahia Inc. is quoted on OTC Link operated by OTC Markets Group, Inc. under the ticker symbol “PBAH.”

It appears to the Securities and Exchange Commission that there is a lack of current and accurate information concerning the securities of Phoenix Associates Land Syndicate because questions have arisen as to its operating status, if any. Phoenix Associates Land Syndicate is quoted on OTC Link operated by OTC Markets Group, Inc. under the ticker symbol “PBLSQ.”

It appears to the Securities and Exchange Commission that there is a lack of current and accurate information concerning the securities of Prime Companies, Inc. because questions have arisen as to its operating status, if any. Prime Companies, Inc. is quoted on OTC Link operated by OTC Markets Group, Inc. under the ticker symbol “PCIR.”

It appears to the Securities and Exchange Commission that there is a lack of current and accurate information concerning the securities of Piccolo Educational Systems, Inc. because questions have arisen as to its operating status, if any. Piccolo Educational Systems, Inc. is quoted on OTC Link operated by OTC Markets Group, Inc. under the ticker symbol “PEDU.”

It appears to the Securities and Exchange Commission that there is a lack of current and accurate information concerning the securities of Pamet Systems, Inc. because questions have arisen as to its operating status, if any. Pamet Systems, Inc. is quoted on OTC Link operated by OTC Markets Group, Inc. under the ticker symbol “PMTT.”

It appears to the Securities and Exchange Commission that there is a lack of current and accurate information concerning the securities of Panglobal Brands, Inc. because questions have arisen as to its operating status, if any. Panglobal Brands, Inc. is quoted on OTC Link operated by OTC Markets Group, Inc. under the ticker symbol “PNGB.”

It appears to the Securities and Exchange Commission that there is a lack of current and accurate information concerning the securities of Pensador Resources, Inc. because questions have arisen as to its operating status, if any. Pensador Resources, Inc. is quoted on OTC Link operated by OTC Markets Group, Inc. under the ticker symbol “PNSR.”

It appears to the Securities and Exchange Commission that there is a lack of current and accurate information concerning the securities of Pop3 Media Corp. because questions have arisen as to its operating status, if any. Pop3 Media Corp. is quoted on OTC Link operated by OTC Markets Group, Inc. under the ticker symbol “POPT.”

It appears to the Securities and Exchange Commission that there is a lack of current and accurate information concerning the securities of PreMD Inc. because questions have arisen as to its operating status, if any. PreMD Inc. is quoted on OTC Link operated by OTC Markets Group, Inc. under the ticker symbol “PREMF.”

It appears to the Securities and Exchange Commission that there is a lack of current and accurate information concerning the securities of Phoenix India Acquisition Corp. because questions have arisen as to its operating status, if any. Phoenix India Acquisition Corp. is quoted on OTC Link operated by OTC Markets Group, Inc. under the ticker symbol “PXIA.”

It appears to the Securities and Exchange Commission that there is a lack of current and accurate information concerning the securities of Quantex Capital Corp. because questions have arisen as to its operating status, if any. Quantex Capital Corp. is quoted on OTC Link operated by OTC Markets Group, Inc. under the ticker symbol “QCPC.”

It appears to the Securities and Exchange Commission that there is a lack of current and accurate information concerning the securities of QMAC Energy, Inc. because questions have arisen as to its operating status, if any. QMAC Energy, Inc. is quoted on OTC Link operated by OTC Markets Group, Inc. under the ticker symbol “QMCG.”

It appears to the Securities and Exchange Commission that there is a lack of current and accurate information concerning the securities of QMed, Inc. because questions have arisen as to its operating status, if any. QMed, Inc. is quoted on OTC Link operated by OTC Markets Group, Inc. under the ticker symbol “QMED.”

It appears to the Securities and Exchange Commission that there is a lack of current and accurate information concerning the securities of Raduga Inc. because questions have arisen as to its operating status, if any. Raduga Inc. is quoted on OTC Link operated by OTC Markets Group, Inc. under the ticker symbol “RADG.”

It appears to the Securities and Exchange Commission that there is a lack of current and accurate information concerning the securities of Intercorp Excelle, Inc. because questions have arisen as to its operating status, if any. Intercorp Excelle, Inc. is quoted on OTC Link operated by OTC Markets Group, Inc. under the ticker symbol “RENE.”

It appears to the Securities and Exchange Commission that there is a lack of current and accurate information concerning the securities of RFP Express, Inc. because questions have arisen as to its operating status, if any. RFP Express, Inc. is quoted on OTC Link operated by OTC Markets Group, Inc. under the ticker symbol “RFPX.”

It appears to the Securities and Exchange Commission that there is a lack of current and accurate information concerning the securities of Rockelle Corp. because questions have arisen as to its operating status, if any. Rockelle Corp. is quoted on OTC Link operated by OTC Markets Group, Inc. under the ticker symbol “RKLC.”

It appears to the Securities and Exchange Commission that there is a lack of current and accurate information concerning the securities of Remote Knowledge, Inc. because questions have arisen as to its operating status, if any. Remote Knowledge, Inc. is quoted on OTC Link operated by OTC Markets Group, Inc. under the ticker symbol “RKNW.”

It appears to the Securities and Exchange Commission that there is a lack of current and accurate information concerning the securities of Rosedale Decorative Products Ltd. because questions have arisen as to its operating status, if any. Rosedale Decorative Products Ltd. is quoted on OTC Link operated by OTC Markets Group, Inc. under the ticker symbol “ROSD.”

It appears to the Securities and Exchange Commission that there is a lack of current and accurate information concerning the securities of ReSourcePhoenix.com, Inc. because questions have arisen as to its operating status, if any. ReSourcePhoenix.com, Inc. is quoted on OTC Link operated by OTC Markets Group, Inc. under the ticker symbol “RPCX.”

It appears to the Securities and Exchange Commission that there is a lack of current and accurate information concerning the securities of RedRoller Holdings, Inc. because questions have arisen as to its operating status, if any. RedRoller Holdings, Inc. is quoted on OTC Link operated by OTC Markets Group, Inc. under the ticker symbol “RROLQ.”

It appears to the Securities and Exchange Commission that there is a lack of current and accurate information concerning the securities of Response USA, Inc. because questions have arisen as to its operating status, if any. Response USA, Inc. is quoted on OTC Link operated by OTC Markets Group, Inc. under the ticker symbol “RSPNQ.”

It appears to the Securities and Exchange Commission that there is a lack of current and accurate information concerning the securities of RAM Venture Holdings Corp. because questions have arisen as to its operating status, if any. RAM Venture Holdings Corp. is quoted on OTC Link operated by OTC Markets Group, Inc. under the ticker symbol “RVHC.”

It appears to the Securities and Exchange Commission that there is a lack of current and accurate information concerning the securities of RxElite, Inc. because questions have arisen as to its operating status, if any. RxElite, Inc. is quoted on OTC Link operated by OTC Markets Group, Inc. under the ticker symbol “RXEI.”

It appears to the Securities and Exchange Commission that there is a lack of current and accurate information concerning the securities of Scrip Advantage, Inc. because questions have arisen as to its operating status, if any. Scrip Advantage, Inc. is quoted on OTC Link operated by OTC Markets Group, Inc. under the ticker symbol “SCPV.”

It appears to the Securities and Exchange Commission that there is a lack of current and accurate information concerning the securities of SeaEscape Entertainment, Inc. because questions have arisen as to its operating status, if any. SeaEscape Entertainment, Inc. is quoted on OTC Link operated by OTC Markets Group, Inc. under the ticker symbol “SEPI.”

It appears to the Securities and Exchange Commission that there is a lack of current and accurate information concerning the securities of Sherwood Brands, Inc. because questions have arisen as to its operating status, if any. Sherwood Brands, Inc. is quoted on OTC Link operated by OTC Markets Group, Inc. under the ticker symbol “SHDBQ.”

It appears to the Securities and Exchange Commission that there is a lack of current and accurate information concerning the securities of Stamford Industrial Group, Inc. because questions have arisen as to its operating status, if any. Stamford Industrial Group, Inc. is quoted on OTC Link operated by OTC Markets Group, Inc. under the ticker symbol “SIDGQ.”

It appears to the Securities and Exchange Commission that there is a lack of current and accurate information concerning the securities of Sivoo Holdings, Inc. because questions have arisen as to its operating status, if any. Sivoo Holdings, Inc. is quoted on OTC Link operated by OTC Markets Group, Inc. under the ticker symbol “SIVO.”

It appears to the Securities and Exchange Commission that there is a lack of current and accurate information concerning the securities of SK Realty Ventures, Inc. because questions have arisen as to its operating status, if any. SK Realty Ventures, Inc. is quoted on OTC Link operated by OTC Markets Group, Inc. under the ticker symbol “SKRV.”

It appears to the Securities and Exchange Commission that there is a lack of current and accurate information concerning the securities of Skyline Multimedia Entertainment, Inc. because questions have arisen as to its operating status, if any. Skyline Multimedia Entertainment, Inc. is quoted on OTC Link operated by OTC Markets Group, Inc. under the ticker symbol “SKYL.”

It appears to the Securities and Exchange Commission that there is a lack of current and accurate information concerning the securities of Solica, Inc. because questions have arisen as to its operating status, if any. Solica, Inc. is quoted on OTC Link operated by OTC Markets Group, Inc. under the ticker symbol “SLIA.”

It appears to the Securities and Exchange Commission that there is a lack of current and accurate information concerning the securities of Sunnylife Global, Inc. because questions have arisen as to its operating status, if any. Sunnylife Global, Inc. is quoted on OTC Link operated by OTC Markets Group, Inc. under the ticker symbol “SNYL.”

It appears to the Securities and Exchange Commission that there is a lack of current and accurate information concerning the securities of Source Direct Holdings, Inc. because questions have arisen as to its operating status, if any. Source Direct Holdings, Inc. is quoted on OTC Link operated by OTC Markets Group, Inc. under the ticker symbol “SODH.”

It appears to the Securities and Exchange Commission that there is a lack of current and accurate information concerning the securities of Solei Systems, Inc. because questions have arisen as to its operating status, if any. Solei Systems, Inc. is quoted on OTC Link operated by OTC Markets Group, Inc. under the ticker symbol “SOLI.”

It appears to the Securities and Exchange Commission that there is a lack of current and accurate information concerning the securities of Shopsmith, Inc. because questions have arisen as to its operating status, if any. Shopsmith, Inc. is quoted on OTC Link operated by OTC Markets Group, Inc. under the ticker symbol “SSMH.”

It appears to the Securities and Exchange Commission that there is a lack of current and accurate information concerning the securities of Startec, Inc. because questions have arisen as to its operating status, if any. Startec, Inc. is quoted on OTC Link operated by OTC Markets Group, Inc. under the ticker symbol “STIN.”

It appears to the Securities and Exchange Commission that there is a lack of current and accurate information concerning the securities of Smart SMS Corp. because questions have arisen as to its operating status, if any. Smart SMS Corp. is quoted on OTC Link operated by OTC Markets Group, Inc. under the ticker symbol “STMC.”

It appears to the Securities and Exchange Commission that there is a lack of current and accurate information concerning the securities of SunStar Healthcare, Inc. because questions have arisen as to its operating status, if any. SunStar Healthcare, Inc. is quoted on OTC Link operated by OTC Markets Group, Inc. under the ticker symbol “SUHI.”

It appears to the Securities and Exchange Commission that there is a lack of current and accurate information concerning the securities of SWMX, Inc. because questions have arisen as to its operating status, if any. SWMX, Inc. is quoted on OTC Link operated by OTC Markets Group, Inc. under the ticker symbol “SWMX.”

It appears to the Securities and Exchange Commission that there is a lack of current and accurate information concerning the securities of SweetskinZ Holdings, Inc. because questions have arisen as to its operating status, if any. SweetskinZ Holdings, Inc. is quoted on OTC Link operated by OTC Markets Group, Inc. under the ticker symbol “SWZH.”

It appears to the Securities and Exchange Commission that there is a lack of current and accurate information concerning the securities of SkyMarkHoldings, Inc. because questions have arisen as to its operating status, if any. SkyMarkHoldings, Inc. is quoted on OTC Link operated by OTC Markets Group, Inc. under the ticker symbol “SYHI.”

It appears to the Securities and Exchange Commission that there is a lack of current and accurate information concerning the securities of Synvista Therapeutics, Inc. because questions have arisen as to its operating status, if any. Synvista Therapeutics, Inc. is quoted on OTC Link operated by OTC Markets Group, Inc. under the ticker symbol “SYNI.”

It appears to the Securities and Exchange Commission that there is a lack of current and accurate information concerning the securities of Syratech Corp. because questions have arisen as to its operating status, if any. Syratech Corp. is quoted on OTC Link operated by OTC Markets Group, Inc. under the ticker symbol “SYRA.”

It appears to the Securities and Exchange Commission that there is a lack of current and accurate information concerning the securities of Syzygy Entertainment, Ltd. because questions have arisen as to its operating status, if any. Syzygy Entertainment, Ltd. is quoted on OTC Link operated by OTC Markets Group, Inc. under the ticker symbol “SYZG.”

It appears to the Securities and Exchange Commission that there is a lack of current and accurate information concerning the securities of Total Containment, Inc. because questions have arisen as to its operating status, if any. Total Containment, Inc. is quoted on OTC Link operated by OTC Markets Group, Inc. under the ticker symbol “TCIX.”

It appears to the Securities and Exchange Commission that there is a lack of current and accurate information concerning the securities of Teknowledge Corp. because questions have arisen as to its operating status, if any. Teknowledge Corp. is quoted on OTC Link operated by OTC Markets Group, Inc. under the ticker symbol “TEKCQ.”

It appears to the Securities and Exchange Commission that there is a lack of current and accurate information concerning the securities of TEK DigiTel Corp. because questions have arisen as to its operating status, if any. TEK DigiTel Corp. is quoted on OTC Link operated by OTC Markets Group, Inc. under the ticker symbol “TEKI.”

It appears to the Securities and Exchange Commission that there is a lack of current and accurate information concerning the securities of The Fight Zone, Inc. because questions have arisen as to its operating status, if any. The Fight Zone, Inc. is quoted on OTC Link operated by OTC Markets Group, Inc. under the ticker symbol “TFZI.”

It appears to the Securities and Exchange Commission that there is a lack of current and accurate information concerning the securities of Tidelands Oil & Gas Corp. because questions have arisen as to its operating status, if any. Tidelands Oil & Gas Corp. is quoted on OTC Link operated by OTC Markets Group, Inc. under the ticker symbol “TIDE.”

It appears to the Securities and Exchange Commission that there is a lack of current and accurate information concerning the securities of Triad Innovations, Inc. because questions have arisen as to its operating status, if any. Triad Innovations, Inc. is quoted on OTC Link operated by OTC Markets Group, Inc. under the ticker symbol “TINV.”

It appears to the Securities and Exchange Commission that there is a lack of current and accurate information concerning the securities of Taj Systems, Inc. because questions have arisen as to its operating status, if any. Taj Systems, Inc. is quoted on OTC Link operated by OTC Markets Group, Inc. under the ticker symbol “TJSS.”

It appears to the Securities and Exchange Commission that there is a lack of current and accurate information concerning the securities of Tank Sports, Inc. because questions have arisen as to its operating status, if any. Tank Sports, Inc. is quoted on OTC Link operated by OTC Markets Group, Inc. under the ticker symbol “TNSP.”

It appears to the Securities and Exchange Commission that there is a lack of current and accurate information concerning the securities of TransferOrbit Corp. because questions have arisen as to its operating status, if any. TransferOrbit Corp. is quoted on OTC Link operated by OTC Markets Group, Inc. under the ticker symbol “TRBI.”

It appears to the Securities and Exchange Commission that there is a lack of current and accurate information concerning the securities of Tri-S Security Corp. because questions have arisen as to its operating status, if any. Tri-S Security Corp. is quoted on OTC Link operated by OTC Markets Group, Inc. under the ticker symbol “TRIS.”

It appears to the Securities and Exchange Commission that there is a lack of current and accurate information concerning the securities of TrueYou.com, Inc. because questions have arisen as to its operating status, if any. TrueYou.com, Inc. is quoted on OTC Link operated by OTC Markets Group, Inc. under the ticker symbol “TUYU.”

It appears to the Securities and Exchange Commission that there is a lack of current and accurate information concerning the securities of Westwood Group, Inc. (The) because questions have arisen as to its operating status, if any. Westwood Group, Inc. (The) is quoted on OTC Link operated by OTC Markets Group, Inc. under the ticker symbol “TWDG.”

It appears to the Securities and Exchange Commission that there is a lack of current and accurate information concerning the securities of Turning Wheel Holdings, Inc. because questions have arisen as to its operating status, if any. Turning Wheel Holdings, Inc. is quoted on OTC Link operated by OTC Markets Group, Inc. under the ticker symbol “TWHI.”

It appears to the Securities and Exchange Commission that there is a lack of current and accurate information concerning the securities of TeleData World Services, Inc. because questions have arisen as to its operating status, if any. TeleData World Services, Inc. is quoted on OTC Link operated by OTC Markets Group, Inc. under the ticker symbol “TWOS.”

It appears to the Securities and Exchange Commission that there is a lack of current and accurate information concerning the securities of Tianxin Mining (USA), Inc. because questions have arisen as to its operating status, if any. Tianxin Mining (USA), Inc. is quoted on OTC Link operated by OTC Markets Group, Inc. under the ticker symbol “TXNM.”

It appears to the Securities and Exchange Commission that there is a lack of current and accurate information concerning the securities of Ultimate Franchise Systems, Inc. because questions have arisen as to its operating status, if any. Ultimate Franchise Systems, Inc. is quoted on OTC Link operated by OTC Markets Group, Inc. under the ticker symbol “ULFS.”

It appears to the Securities and Exchange Commission that there is a lack of current and accurate information concerning the securities of UpSnap, Inc. because questions have arisen as to its operating status, if any. UpSnap, Inc. is quoted on OTC Link operated by OTC Markets Group, Inc. under the ticker symbol “UPSN.”

It appears to the Securities and Exchange Commission that there is a lack of current and accurate information concerning the securities of U.S. Aerospace, Inc. because questions have arisen as to its operating status, if any. U.S. Aerospace, Inc. is quoted on OTC Link operated by OTC Markets Group, Inc. under the ticker symbol “USAE.”

It appears to the Securities and Exchange Commission that there is a lack of current and accurate information concerning the securities of uWink, Inc. because questions have arisen as to its operating status, if any. uWink, Inc. is quoted on OTC Link operated by OTC Markets Group, Inc. under the ticker symbol “UWKI.”

It appears to the Securities and Exchange Commission that there is a lack of current and accurate information concerning the securities of VCampus Corp. because questions have arisen as to its operating status, if any. VCampus Corp. is quoted on OTC Link operated by OTC Markets Group, Inc. under the ticker symbol “VCMP.”

It appears to the Securities and Exchange Commission that there is a lack of current and accurate information concerning the securities of Vitalstate, Inc. because questions have arisen as to its operating status, if any. Vitalstate, Inc. is quoted on OTC Link operated by OTC Markets Group, Inc. under the ticker symbol “VTST.”

It appears to the Securities and Exchange Commission that there is a lack of current and accurate information concerning the securities of Vzillion, Inc. because questions have arisen as to its operating status, if any. Vzillion, Inc. is quoted on OTC Link operated by OTC Markets Group, Inc. under the ticker symbol “VZIL.”

It appears to the Securities and Exchange Commission that there is a lack of current and accurate information concerning the securities of We R You Corp. because questions have arisen as to its operating status, if any. We R You Corp. is quoted on OTC Link operated by OTC Markets Group, Inc. under the ticker symbol “WERU.”

It appears to the Securities and Exchange Commission that there is a lack of current and accurate information concerning the securities of World Health Alternatives, Inc. because questions have arisen as to its operating status, if any. World Health Alternatives, Inc. is quoted on OTC Link operated by OTC Markets Group, Inc. under the ticker symbol “WHAIQ.”

It appears to the Securities and Exchange Commission that there is a lack of current and accurate information concerning the securities of WiFiMed Holdings Co., Inc. because questions have arisen as to its operating status, if any. WiFiMed Holdings Co., Inc. is quoted on OTC Link operated by OTC Markets Group, Inc. under the ticker symbol “WIFM.”

It appears to the Securities and Exchange Commission that there is a lack of current and accurate information concerning the securities of Wi-Fi TV, Inc. because questions have arisen as to its operating status, if any. Wi-Fi TV, Inc. is quoted on OTC Link operated by OTC Markets Group, Inc. under the ticker symbol “WIFT.”

It appears to the Securities and Exchange Commission that there is a lack of current and accurate information concerning the securities of WebSky, Inc. because questions have arisen as to its operating status, if any. WebSky, Inc. is quoted on OTC Link operated by OTC Markets Group, Inc. under the ticker symbol “WKYN.”

It appears to the Securities and Exchange Commission that there is a lack of current and accurate information concerning the securities of Walker Financial Corp. because questions have arisen as to its operating status, if any. Walker Financial Corp. is quoted on OTC Link operated by OTC Markets Group, Inc. under the ticker symbol “WLKF.”

It appears to the Securities and Exchange Commission that there is a lack of current and accurate information concerning the securities of World Logistics Services, Inc. because questions have arisen as to its operating status, if any. World Logistics Services, Inc. is quoted on OTC Link operated by OTC Markets Group, Inc. under the ticker symbol “WLSV.”

It appears to the Securities and Exchange Commission that there is a lack of current and accurate information concerning the securities of World Am, Inc. because questions have arisen as to its operating status, if any. World Am, Inc. is quoted on OTC Link operated by OTC Markets Group, Inc. under the ticker symbol “WOAM.”

It appears to the Securities and Exchange Commission that there is a lack of current and accurate information concerning the securities of Westlin Corp. because questions have arisen as to its operating status, if any. Westlin Corp. is quoted on OTC Link operated by OTC Markets Group, Inc. under the ticker symbol “WSTN.”

It appears to the Securities and Exchange Commission that there is a lack of current and accurate information concerning the securities of Worldwide Auction Solutions, Inc. because questions have arisen as to its operating status, if any. Worldwide Auction Solutions, Inc. is quoted on OTC Link operated by OTC Markets Group, Inc. under the ticker symbol “WWDA.”

It appears to the Securities and Exchange Commission that there is a lack of current and accurate information concerning the securities of WWEBNET, Inc. because questions have arisen as to its operating status, if any. WWEBNET, Inc. is quoted on OTC Link operated by OTC Markets Group, Inc. under the ticker symbol “WWEB.”

It appears to the Securities and Exchange Commission that there is a lack of current and accurate information concerning the securities of XA, Inc. because questions have arisen as to its operating status, if any. XA, Inc. is quoted on OTC Link operated by OTC Markets Group, Inc. under the ticker symbol “XAIN.”

It appears to the Securities and Exchange Commission that there is a lack of current and accurate information concerning the securities of Xensor Corp. because questions have arisen as to its operating status, if any. Xensor Corp. is quoted on OTC Link operated by OTC Markets Group, Inc. under the ticker symbol “XNSR.”

The Commission is of the opinion that the public interest and the protection of investors require a suspension of trading in the securities of the above-listed companies.

Therefore, it is ordered, pursuant to Section 12(k) of the Securities Exchange Act of 1934, that trading in the securities of the above-listed companies is suspended for the period from 9:30 a.m. EST on February 3, 2014, through 11:59 p.m. EST on February 14, 2014.

By the Commission.
Jill M. Peterson,
Assistant Secretary.

[FR Doc. 2014-02526 Filed 2-3-14; 4:15 pm]

BILLING CODE 8011-01-P